DEPARTMENT OF HOMELAND SECURITY

U.S. Immigration and Customs Enforcement

[OMB Control Number 1653-0022]

Agency Information Collection Activities: Revision of a Currently Approved Collection: Immigration Bond

AGENCY: U.S. Immigration and Customs Enforcement, Department of Homeland Security.

ACTION: 30-Day notice.

SUMMARY: In accordance with the Paperwork Reduction Act (PRA) of 1995 the Department of Homeland Security (DHS), U.S. Immigration and Customs Enforcement (ICE) will submit the following Information Collection Request (ICR) to the Office of Management and Budget (OMB) for review and clearance. This information collection was previously published in the Federal Register on August 27, 2019, allowing for a 60-day comment period. ICE received one comment in connection with the 60-day notice. The purpose of this notice is to allow an additional 30 days for public comments.

DATES: Comments are encouraged and will be accepted until December 2, 2019.

ADDRESSES: Interested persons are invited to submit written comments and/or suggestions regarding the item(s) contained in this notice, especially regarding the estimated public burden and associated response time, to the Office of Information and Regulatory Affairs, Office of Management and Budget. Comments should be addressed to the OMB Desk Officer for U.S. Immigration and Customs Enforcement, Department of Homeland Security, and sent via electronic mail to dhsdeskofficer@omb.eop.gov or faxed to (202) 395-5806. All submissions must include the words “Department of Homeland Security” and the OMB Control Number 1653-0022.

FOR FURTHER INFORMATION CONTACT: For specific question related to collection activities, please contact: Justin Gellert, 202-732-5462, justin.c.gellert@ice.dhs.gov, Enforcement and Removal Operations, Bond Management Unit, ICE.

SUPPLEMENTARY INFORMATION:

Comments

Written comments and suggestions from the public and affected agencies concerning the proposed collection of information should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Revision of a Currently Approved Collection.

(2) Title of the Form/Collection: Immigration Bond.

(3) Agency form number, if any, and the applicable component of the DHS sponsoring the collection: I-352; ICE.

(4) Affected public who will be asked or required to respond, as well as a brief abstract: Primary: Individual or Households, Business or other nonprofit. The data collected on this collection instrument is used by ICE to ensure that the person or company posting the bond is aware of the duties and responsibilities associated with the bond. The collection instrument serves the purpose of instruction in the completion of the form, together with an explanation of the terms and conditions of the bond. Sureties have the capability of accessing, completing and submitting delivery, voluntary departure, and order of supervision bonds electronically through ICE's eBonds system which encompasses the I-352, while individuals are still required to complete the bond form manually and sureties will be required to submit maintenance of status and departure bonds manually.

(5) An estimate of the total number of respondents and the amount of time estimated for an average respondent to respond: 61,722 responses at 30 minutes (.50 hours) per response. ICE calculated the number of estimated responses by adding together the number of bonds that were posted using Form I-352 in Fiscal Year 2018 (58,734) with the maximum number of maintenance of status and departure bonds the Department of State expects may be required for non-immigrants in the next fiscal year (2,988). The burden estimate includes the time required to review instructions, gather and maintain data needed, to complete, and to file the collection of information.

(6) An estimate of the total public burden (in hours) associated with the collection: 30,861 annual burden hours, estimated by multiplying the total number of responses, 61,722, by the average response burden of .50 hours. This estimate is composed of 8,689 responses from surety companies, and 53,033 aliens posting cash bonds resulting in a total of 61,722 responses.

(7) An estimate of the total public burden (in cost) associated with the collection: The estimated total annual cost is $743,670. This cost is composed of the burden to surety companies estimated using the average wage for insurance sales agents and the burden to aliens using the average wage of unskilled workers and production works plus fringe benefits estimated to be $47.58 per hour and $20.25 per hour respectively.¹

¹ The hourly wage rate for an insurance sales agent is $32.64 as reported by the Bureau of Labor Statistics (BLS) in the May 2018 National Occupational Employment and Wage Estimates United States, https://www.bls.gov/oes/current/oes_nat.htm#41-3021.

The hourly wage rate for unskilled labor is represented by the national average of state minimum wage rates, $8.94. See Consolidated Minimum Wage Table, June 1, 2019, https://www.dol.gov/whd/minwage/mw-consolidated.htm. The hourly wage rate for manufacturing labor is represented by the average hourly wage for production occupations, $18.84. See All Production Occupations, May 2018 National Occupational Employment and Wage Estimates United States, https://www.bls.gov/oes/current/oes_nat.htm#51-0000. Employer costs per hour worked for employee compensation and costs as a percent of total compensation: Civilian workers, by major occupational and industry group, All workers, https://www.bls.gov/news.release/ecec.t01.htm. Wages and salaries are 68.6 percent of total compensation.

(8) The estimated cost to the Government associated with the collection: The total estimated cost is $10,422,995, which includes printing costs and the collection and processing burden for each form. The total printing costs equate to $46,292 which is estimated by multiplying the number of responses (61,722) by the cost of printing two forms per response for $0.75. The collection and processing of each form takes an average of 6 hours, and will be conducted by a government employee with an average hourly wage plus overhead estimated to be $28.02.² The total cost of collecting and processing for the government is $10,376,703.

² The hourly rate is an average of a General Schedule Grade 7 Step 5, and a Grade 9 Step 1, plus the average national locality adjustment of 21.48 percent. https://www.opm.gov/policy-data-oversight/pay-leave/salaries-wages/salary-tables/pdf/2019/saltbl.pdf. An overhead rate of 12 percent was added to reflect the indirect expenses as reported in OMB Circular A76, https://www.whitehouse.gov/sites/whitehouse.gov/files/omb/circulars/A76/a76_incl_tech_correction.pdf.

Overview of Proposed Revisions to the Bond Form and to Bond Procedures

Form No. I-352, Immigration Bond, has not been substantively revised since 2008. Changes to the form are now necessary because U.S. Citizenship and Immigration Services (USCIS) intends to issue a different form for public charge bonds and Form I-352 will no longer be used for that type of bond. Additionally, ICE is adding language to explain the terms and conditions of maintenance of status and departure bonds. Maintenance of status and departure bonds were previously accepted by the former Immigration and Naturalization Service (INS) on earlier versions of the Form I-352, and ICE may accept this type of bond when required for non-immigrants visiting the United States. The proposed revisions to the bond form also seek to clarify when a bond obligor's liability attaches and the events that trigger cancellation of a bond, and to notify the public that ICE will no longer issue receipts on Form I-305 for bonds secured by a cash deposit.

Cash Bond Deposit: ICE has revised the Instructions to state that it will accept a certified check, a cashier's check, or a money order (a “cash equivalent”) as a deposit from a cash bond obligor.

eBONDS Power of Attorney: Based on the development of the eBONDS system, ICE has revised the Instructions to state that surety bonds issued using the eBONDS system may be accompanied by a power of attorney executed by a surety company for use in the eBONDS system.

General Terms and Conditions: Because certain jurisdictions do not honor ICE detainers, the General Terms and Conditions governing the bond have been revised to reflect that a bond will not be cancelled simply because ICE is on notice of the detention of the bonded alien for 30 or more days pursuant, or prior, to a conviction by local, state, or federal authorities. The revised General Terms and Conditions clarify that a delivery bond may not be breached when the bonded alien is in local, state, or federal custody on the date the obligor is scheduled to produce the alien. The bond will remain in effect in this situation unless ICE later takes the bonded alien into its custody directly from local, state, or federal authorities, in which case the bond will be cancelled.

Address to Use for Notice Purposes: Part A of Form I-352 has been revised to delete the boxes indicating the address to use for notice purposes.

Liability Attaches Upon Execution of the Bond: Part C of Form I-352 has been revised to reflect that the surety's liability attaches upon execution of the bond form. References to the alien becoming a public charge have been omitted and the revisions clarify that the face amount of the bond is forfeited or becomes due when the breach determination is administratively final.

Form I-352 No Longer Used for Public Charge Bonds: Previous Paragraph G(2) has been omitted from Form I-352 in anticipation of USCIS using a different form for issuance of public charge bonds.

Maintenance of Status and Departure Bonds: Paragraph G(4) has been added to explain the terms and conditions for Maintenance of Status and Departure Bonds. The former INS accepted maintenance of status and departure bonds using prior versions of Form I-352 when a bond was required for a non-immigrant traveling to the United States.

Deletion of Paragraphs H-J: Because U.S. bonds, notes and cash are no longer accepted as deposits to secure cash bonds, ICE has eliminated Paragraphs H-J of Form I-352 and any references to those paragraphs because they are no longer necessary.

Forms I-305 and I-395 No Longer Used in Conjunction with Cash Bonds: Before the advent of electronic signatures, ICE issued a receipt on Form I-305 to the cash bond obligor documenting the amount of the bond deposit. ICE required the obligor to submit the original of Form I-305 with the bond cancellation notice before obtaining a refund of the cash bond deposit. If the obligor lost the receipt, the obligor could submit an affidavit on Form I-395 in lieu of the receipt to claim the cash bond deposit. ICE has now determined that issuance of Form I-305 is unnecessary and is unduly burdensome. For bonds posted on the newly revised bond form, ICE will no longer require cash bond obligors to submit Form I-305 or Form I-395 after a bond has been cancelled and will issue refunds of bond deposits to the individual or entity identified in ICE records as the individual or entity entitled to receive the refund without requiring Form I-305 or Form I-395 to be submitted.

Dated: October 28, 2019.
Scott Elmore,
PRA Clearance Officer.

[FR Doc. 2019-23793 Filed 10-30-19; 8:45 am]

BILLING CODE 9111-28-P